NATIONAL COMMISSION ON LIBRARIES AND INFORMATION SCIENCE (NCLIS)

Sunshine Act; Meeting

AGENCY: U.S. National Commission on Libraries and Information Science.

ACTION: Notice of meeting.

SUMMARY: The U.S. National Commission on Libraries and Information Science is holding an open business meeting to discuss Commission programs and administrative matters. Topics will include, the discussion of the role of libraries in disaster preparedness and response in light of the September 11th terrorist attack. Other topics will include consideration of a research and development initiative on library and information services for individuals with disabilities, and the Commission's role in planning for an international conference on information literacy.

DATE AND TIME: NCLIS Business Meeting—December 5, 2001, 2 p.m. to 5 p.m. and December 6, 2001, 9 to 12 p.m.

ADDRESSES: Conference Room, NCLIS Office, 1110 Vermont Avenue, NW., Suite 820 Washington, DC 20005.

STATUS: Open meeting.

FOR FURTHER INFORMATION CONTACT: Rosalie Vlach, Director, Legislative and Public Affairs, U.S. National Commission on Libraries and Information Science, 1110 Vermont Avenue, NW., Suite 820, Washington, DC 20005, e-mail rvlach@nclis.gov, fax 202-606-9203 or telephone 202-606 9200.

SUPPLEMENTARY INFORMATION: The meeting is open to the public, subject to space availability. To make special arrangements for physically challenged persons, contact Rosalie Vlach, Director, Legislative and Public Affairs, 1110 Vermont Avenue, NW., Suite 820, Washington, DC 20005, e-mail rvlach@nclis.gov, fax 202-606-9203 or telephone 202-606-9200.

Dated: November 16, 2001.
Robert S. Willard,
NCLIS Executive Director.

[FR Doc. 01-29064 Filed 11-16-01; 11:41 am]

BILLING CODE 7527-$$-P